DEPARTMENT OF HOMELAND SECURITY

Coast Guard

[Docket No. USCG-2010-0164]

National Boating Safety Advisory Council; July 2020 Teleconference

AGENCY: U.S. Coast Guard, Department of Homeland Security.

ACTION: Notice of Federal Advisory Committee teleconference meeting.

SUMMARY: The National Boating Safety Advisory Council (Council) and its subcommittees will meet via teleconference to discuss matters relating to recreational boating safety. The meeting will be open to the public.

DATES: Meeting: The National Boating Safety Advisory Council and its subcommittees will meet by teleconference on Wednesday, July 29, 2020, from 1:00 p.m. until 4:00 p.m., (Eastern Daylight Time). The teleconference may adjourn early if the Council has completed its business.

Comments and supporting documentation: To ensure your comments are received by Council members before the teleconference, submit your written comments no later than July 15, 2020.

ADDRESSES: To join the teleconference or to request special accommodations, contact the individual listed in the FOR FURTHER INFORMATION CONTACT section no later than 1 p.m. on July 15, 2020, to obtain the needed information. The number of teleconferences lines is limited and will be available on a first-come, first-served basis.

Instructions: You are free to submit comments at any time, including orally at the teleconference as time permits, but if you want Council members to review your comments before the teleconference, please submit your comments no later than July 15, 2020. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2010-0164]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Council, 2703 Martin Luther King Jr. Ave SE, Stop 7509, Washington, DC 20593-7509, telephone 202-372-1507 or NBSAC@uscg.mil.

SUPPLEMENTARY INFORMATION: Notice of this meeting is given pursuant to the Federal Advisory Committee Act, (5, U.S.C, Appendix). Congress established the National Boating Safety Advisory Council in the Federal Boat Safety Act of 1971 (Pub. L. 92-75). The National Boating Safety Advisory Council provides advice and recommendations to the Department of Homeland Security on matters relating to recreational vessels and associated equipment and on other safety matters related to recreational vessels.

Agenda

The agenda for the National Boating Safety Advisory Council meeting is as follows:

Wednesday, July 29, 2020

(1) Call to Order.

(2) Opening remarks.

(3) National Boating Safety Advisory Council Boats and Associated Equipment Subcommittee report on benefits of wearing Engine Cut-Off Switch (ECOS) links for recreational vessel operators.

(4) National Boating Safety Advisory Council Prevention Through People Subcommittee report on exemption from carriage of throwable personal flotation devices requirement for rafts 16 feet or more in length.

(5) Receipt and discussion of the following reports from the Office of Auxiliary and Boating Safety:

(a) 2018 National Recreational Boating Safety Survey Results.

(b) 2019 Annual Boating Statistics Report Results.

(c) Update on the current National Recreational Boating Safety (RBS) Strategic Plan and discussion of the 2022-2026 Strategic Plan.

(d) Non-profit grant Areas of Interest for 2021.

(6) Closing remarks/plans for next meeting.

(7) Adjournment of meeting.

A copy of all meeting documentation will be available at https://homeport.uscg.mil/missions/ports-and-waterways/safety-advisory-committees/nbsac no later than July 15, 2020. Alternatively, you may contact Mr. Jeff Decker as noted in the FOR FURTHER INFORMATION section above.

During the July 29, 2020 teleconference, a public comment period will be held from approximately 2:15 p.m.-2:45 p.m. Public comments will be limited to two minutes per speaker. Please note that the public comment periods will end following the last call for comments.

Please contact the individual listed in the FOR FURTHER INFORMATION CONTACT section, to register as a speaker.

Dated: June 17, 2020.
Wayne R. Arguin Jr.,
Captain, U.S. Coast Guard, Director of Inspections and Compliance.

[FR Doc. 2020-13503 Filed 6-22-20; 8:45 am]

BILLING CODE 9110-04-P